DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Signal Peak Energy, LLC.

DATES: All comments on the petition must be received by MSHA's Office of Standards, Regulations, and Variances on or before April 3, 2025.

ADDRESSES: You may submit comments identified by Docket No. MSHA-2025-0018 by any of the following methods:

1. Federal eRulemaking Portal: https://www.regulations.gov. Follow the instructions for submitting comments for MSHA-2025-0018.

2. Fax: 202-693-9441.

3. Email: petitioncomments@dol.gov.

4. Regular Mail or Hand Delivery: MSHA, Office of Standards, Regulations, and Variances, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-012-C.

Petitioner: Signal Peak Energy, LLC, 100 Portal Dr., Roundup, MT 59072.

Mine: Bull Mountains Mine No. 1, MSHA ID No. 24-01950, located in Musselshell County, Montana.

Regulation Affected: 30 CFR 75.507-1(a), Permissible electric equipment.

Modification Request: The petitioner requests a modification of the application of 30 CFR 75.507-1(a) to allow the use of an alternative method of respirable dust protection. Specifically, the petitioner is seeking modification of the existing standard to permit usage of Dräger X-plore 8700 Powered Air Purifying Respirators (PAPRs) to be used in return air outby the last open crosscut to protect miners from respirable dust.

The petitioner states that:

(a) The petitioner currently utilizes 3M Versaflo TR-800 PAPRs, that were approved for use under a previous petition. The company's request to utilize Dräger units seeks to leverage its improved performance, battery life, durability, and air volume capacity to provide employees with the best protection available.

(b) Signal Peak Energy's Bull Mountains Mine No. 1 is a non-gassy mine. Methane and other relevant explosive gases have not been encountered at the mine.

(c) MSHA-approved permissible PAPRs are widely discontinued.

(d) Although not MSHA approved, the proposed Dräger X-plore 8700 PAPR is certified as intrinsically safe to use in explosive or dusty environments. It is approved with an intrinsically safe (IS) rating of Class I, Zone 1, AEx ib IIB T4 Gb for explosive gas environments, and Zone 21, AEx ib IIIB 135 °C Db for combustible dust environments, under standards including CAN/CSA-C22.2 No. 60079-11:14 and ANSI/UL 60079-11:13. These certifications ensure the unit's safe operation in hazardous locations where explosive gases or dusts may be present.

(e) The standards for approval of these respirators are an acceptable alternative to MSHA's standards and provide an equivalent level of protection.

(f) The alternative method will guarantee no less than the same measure of protection afforded the miners under the mandatory standard.

The petitioner proposes the following alternative method:

(a) Batteries for the Dräger X-plore 8700 PAPR shall be charged only in intake air, either on the surface or underground, and not within 150 feet of a worked-out area.

(b) Battery inspections and replacements shall be conducted in intake air, either on the surface or underground.

(c) Appropriate battery packs and chargers shall be used with Dräger X-plore 8700 PAPRs:

(1) Li-Ion “High Capacity Battery (EX)”, 10.8 V, 6400mAh, P/N R59575, Um = 18 V DC for charging; or

(2) Li-Ion “Standard Capacity Battery (EX)” 10.8 V, 3350mAh, P/N R59595, Um = 18 V DC for charging.

(d) Miners shall be trained on the safe use, care, and inspection of the Dräger X-plore 8700 PAPR units.

(e) The Dräger X-plore 8700 PAPR units shall be assessed for physical damage before each use.

(f) The Dräger X-plore 8700 PAPR shall not be used if methane is at or above one percent. If methane levels are higher than one percent, equipment shall immediately be de-energized and removed from the affected areas.

(g) All qualified and affected personnel shall receive training on the terms and conditions of the proposed decision and order (PDO) granted by MSHA prior to utilizing equipment in affected areas. A record of training shall be kept and provided upon request by an authorized representative.

(h) There are no representatives of miners at Signal Peak Energy, LLC, Bull Mountains Mine No. 1. A copy of this petition has been posted on the bulletin board as of December 20, 2024.

In support of the proposed alternative method, the petitioner has also submitted: a Dräger X-plore 8700 EX Certificate of Compliance and a Dräger X-plore 8700 EX data sheet.

The petitioner asserts that the alternative method will guarantee no less than the same measure of protection afforded the miners under the mandatory standard.

Song-ae Aromie Noe,
Director, Office of Standards, Regulations, and Variances.

[FR Doc. 2025-03400 Filed 3-3-25; 8:45 am]

BILLING CODE 4520-43-P